SMALL BUSINESS ADMINISTRATION

Class Waiver of the Nonmanufacturer Rule

AGENCY: U.S. Small Business Administration.

ACTION: Notice To rescind Notice of Intent To waive the Nonmanufacturer Rule for diabetic test strips published on July 14, 2020.

SUMMARY: The U.S. Small Business Administration (SBA) is issuing this notice to advise the public it is rescinding a duplicate Notice of Intent, published in the Federal Register on July 14, 2020, regarding a class waiver of the Nonmanufacturer Rule (NMR) for diabetic test strips under North American Industry Classification (NAICS) code 325413 and Product Service Code (PSC) 6515.

FOR FURTHER INFORMATION CONTACT: Carol Hulme, Attorney Advisor, by telephone at 202-205-6347; or by email at Carol-Ann.Hulme@sba.gov.

SUPPLEMENTARY INFORMATION: An initial Notice of Intent to Waive the Nonmanufacturer Rule for diabetic test strips was published in the Federal Register on April 20, 2020, and remains in effect. The comment period pertaining to that notice closed on May 20, 2020. The duplicate notice of intent was published in error on July 14, 2020, identified as Document Number 2020-15149, and located in the Federal Register at 85 FR 42480. SBA took action on the initial Notice on July 17, 2020 by issuing a class waiver of the NMR for diabetic test strips. 85 FR 43634. The class waiver becomes effective on August 17, 2020.

David Loines,
Director, Office of Government Contracting.

[FR Doc. 2020-18173 Filed 8-18-20; 8:45 am]

BILLING CODE P